DEPARTMENT OF HEALTH AND HUMAN SERVICES

Health Resources and Services Administration

Proposed Updates to the Bright Futures Periodicity Schedule as Part of the HRSA-Supported Preventive Services Guidelines for Infants, Children, and Adolescents

AGENCY: Health Resources and Services Administration (HRSA), Department of Health and Human Services.

ACTION: Notice.

SUMMARY: The Periodicity Schedule of the Bright Futures Recommendations for Pediatric Preventive Health Care (“Bright Futures Periodicity Schedule”), as part of the HRSA-supported preventive service guidelines for infants, children, and adolescents, is maintained in part through a national cooperative agreement, the Bright Futures Pediatric Implementation Program.

DATES: Members of the public are invited to provide written comments no later than September 21, 2020. All comments received on or before this date will be reviewed and considered by the Bright Futures Periodicity Schedule Workgroup and provided for further consideration by HRSA in determining the recommended updates that it will support.

ADDRESSES: Members of the public interested in providing comments can do so by accessing the public comment web page at: https://mchb.hrsa.gov/maternal-child-health-topics/child-health/bright-futures.html.

FOR FURTHER INFORMATION CONTACT: Bethany Miller, HRSA, Maternal and Child Health Bureau, email: BMiller@hrsa.gov, telephone: (301) 945-5156.

SUPPLEMENTARY INFORMATION: The Bright Futures Program has been funded as a cooperative agreement by HRSA since 1990. A primary focus of this program is for the funding recipient to maintain and update the Bright Futures Guidelines for Health Supervision of Infants, Children and Adolescents, a set of materials and tools for providing quality preventive care screenings and well-child visits. One component of these tools is the Bright Futures Periodicity Schedule, a chart that identifies the recommended screenings, assessments, physical examinations, and procedures to be delivered within preventive checkups at each age milestone. Over the program's existence, the Bright Futures Periodicity Schedule has become the accepted schedule within the United States for preventive health services through the course of a child's development.

Under the Public Health Service Act, non-grandfathered group health plans and health insurance issuers must include coverage, without cost sharing, for certain preventive services, for plan years (in the individual market, policy years) that begin on or after the date that is one year after the date the recommendation or guideline is issued. These include preventive health services provided for in the Bright Futures Periodicity Schedule as part of the HRSA-supported Preventive Services Guidelines for Infants, Children, and Adolescents. A panel of pediatric primary care experts convened to review the latest evidence and recommends updating the Bright Futures Periodicity Schedule to include screening all individuals ages 18 and older at least once for hepatitis C virus infection. This proposed update aligns with the United States Preventive Services Task Force's recommendation that all adults ages 18 to 79 be screened at least once for hepatitis C virus infection.

The American Academy of Pediatrics, which has been the HRSA cooperative agreement recipient for this program since 2007, maintains the Periodicity Schedule. Under HRSA's cooperative agreement with the American Academy of Pediatrics, the Bright Futures Program is required to administer a process for developing and regularly recommending, as needed, updates to the Bright Futures Periodicity Schedule. As described in the Notice of Funding Opportunity for the Bright Futures Program (HRSA-18-078), the consideration of potential updates is expected to be “a comprehensive, objective, and transparent review of available evidence that incorporates opportunity for public comment.”

Thomas J. Engels,
Administrator.

[FR Doc. 2020-18268 Filed 8-19-20; 8:45 am]

BILLING CODE 4165-15-P